DEPARTMENT OF COMMERCE

National Oceanic and Atmospheric Administration

Agency Information Collection Activities; Submission to the Office of Management and Budget (OMB) for Review and Approval; Comment Request; Pribilof Islands, Taking for Subsistence Purposes

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 10, 2022 (87 FR 48648) during a 60-day comment period. This notice allows for an additional 30 days for public comments.

Agency: National Oceanic & Atmospheric Administration (NOAA), Commerce.

Title: Pribilof Islands, Taking for Subsistence Purposes.

OMB Control Number: 0648-0699.

Form Number(s): None.

Type of Request: Regular submission (extension of a current information collection).

Number of Respondents: 2.

Average Hours per Response: Subsistence harvest and hunt reports submitted via email estimated to take 40 hours per response for each respondent. The St. George Island Traditional Council submits two reports annually and the Aleut Community of St. Paul Island submits three reports annually.

Total Annual Burden Hours: 200.

Needs and Uses: The subsistence use of northern fur seals is cooperatively managed by the National Oceanic and Atmospheric Administration's (NOAA) National Marine Fisheries Service (NMFS) and the Tribal Governments of St. Paul and St. George Islands under § 119 of the Marine Mammal Protection Act, 16 U.S.C. 1388 (MMPA) and governed by regulations found in 50 CFR part 216 subpart F, Taking for Subsistence Purposes under the Fur Seal Act (16 U.S.C. 1155). The regulations, laws, and cooperative agreements are focused on conserving northern fur seals through cooperative effort and consultation regarding effective management of human activities related to the subsistence harvests of northern fur seals and Steller sea lions. In 2014, NMFS obtained a collection of information control number (79 FR 65327; November 4, 2014), reviewed the control number in 2017 (82 FR 51218; November 3, 2017), updated the control number in 2019 (84 FR 52372; October 2, 2019, and corrected in 2020 (85 FR 15948; March 20, 2020).

This an information collection for the annual subsistence use male northern fur seals by Alaska Natives (Pribilovians) residing in the communities of St. Paul and St. George, Alaska (Pribilof Islands) under 50 CFR 216 part 216 subpart F. NMFS established regulations regarding the maximum levels for the annual subsistence needs of the Pribilovians after direct consultation with the Tribal Governments of St. Paul and St. George Islands in Alaska and their respective local Native corporations (Tanadgusix and Tanaq). NMFS regulation creates independent northern fur seal subsistence seasons on St. Paul and St. George islands to include male fur seals less than 7 years old, limits on accidental mortality of female northern fur seals, monitoring and reporting through co-management processes established under their respective cooperative agreements. The regulations at 50 CFR 216.72 state that Pribilovians are responsible for reporting their subsistence needs and actual level of subsistence take. NMFS receives electronic copies of the northern fur seal subsistence use reports from the tribal governments of St. Paul and St. George annually. NMFS subsequently posts these reports online (https://www.fisheries.noaa.gov/alaska/marine-mammal-protection/northern-fur-seal-subsistence-harvest-estimates-and-reports) and includes the relevant data in the annual Alaska Marine Mammal Stock Assessment Report. The only change requested is the changing of the title of the information collection to Pribilof Islands, Taking for Subsistence Purposes.

Affected Public: Individuals or households, and State, Local or Tribal Government.

Frequency: Annual.

Respondent's Obligation: Required to Obtain or Retain Benefits.

Legal Authority: Fur Seal Act (16 U.S.C. 1155).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0699.

Sheleen Dumas,
Department PRA Clearance Officer, Office of the Chief Information Officer, Commerce Department.

[FR Doc. 2022-28100 Filed 12-23-22; 8:45 am]

BILLING CODE 3510-22-P